ENVIRONMENTAL PROTECTION AGENCY

[EPA-HQ-ORD-2020-0682; FRL-10163-02-ORD]

Notice of Public Comment Period for the Biofuels and the Environment: Third Triennial Report to Congress External Review Draft

AGENCY: Environmental Protection Agency (EPA).

ACTION: Notice of public comment period.

SUMMARY: The U.S. Environmental Protection Agency (EPA) is announcing the public comment period for the draft document titled, “Biofuels and the Environment: Third Triennial Report to Congress (External Review Draft).” The document was prepared by EPA's Office of Research and Development (ORD) and Office of Air and Radiation (OAR), in consultation with the U.S. Departments of Agriculture and Energy. EPA is releasing this draft document to seek review by a contractor-led peer review panel. The peer review, organized by EPA's contractor, ERG, will be conducted under the framework of EPA's Scientific Integrity Policy (https://www.epa.gov/sites/default/files/2014-02/documents/scientific_integrity_policy_2012.pdf) and follow procedures established in EPA's Peer Review Handbook 4th Edition, 2015 (EPA/100/B-15/001). The draft document and information about the peer review meeting can be found through www.epa.gov/risk/biofuels-and-environment.

DATES: The 60-day public comment period begins January 3, 2023 and ends March 6, 2023. Comments must be received on or before March 6, 2023.

ADDRESSES: Please follow the instructions as provided in the section of this notice entitled SUPPLEMENTARY INFORMATION.

FOR FURTHER INFORMATION CONTACT: For information on the period of submission, contact the ORD Docket at the EPA Headquarters Docket Center; phone: 202-566-1752; fax: 202-566-9744; or email: ord.docket@epa.gov. For technical information, contact Christopher Clark; email: Clark.Christopher@epa.gov.

SUPPLEMENTARY INFORMATION:

I. Information About the Document

In 2007, Congress enacted the Energy Independence and Security Act (EISA) with the stated goals of “mov[ing] the United States toward greater energy independence and security [and] to increase the production of clean renewable fuels.” In accordance with these goals, EISA revised the Renewable Fuel Standard (RFS) Program, which was created under the 2005 Energy Policy Act and is administered by EPA, to increase the volume of renewable fuel required to be blended into transportation fuel to 36 billion gallons per year by 2022. Section 204 of EISA directs EPA, in consultation with the U.S. Departments of Agriculture and Energy, to assess and report triennially to Congress on the environmental and resource conservation impacts of the RFS Program.

The first report to Congress (RtC1) was completed in 2011 and provided an assessment of the environmental and resource conservation impacts associated with increased biofuel production and use (EPA/600/R-10/183F). The overarching conclusions of this first report were: (1) the environmental impacts of increased biofuel production and use were likely negative but limited in impact; (2) there was a potential for both positive and negative impacts in the future; and (3) EISA goals for biofuels production could be achieved with minimal environmental impacts if best practices were used and if technologies advanced to facilitate the use of second-generation biofuel feedstocks (corn stover, perennial grasses, woody biomass, algae, and waste).

The second report to Congress (RtC2) was completed in 2018 and reaffirmed the overarching conclusions of the RtC1 (EPA/600/R-18/195). The RtC2 noted that the biofuel production and use conditions that led to the conclusions of the RtC1 had not materially changed, and that the production of biofuels from cellulosic feedstocks anticipated by both the EISA and the RtC1 had not materialized. Noting observed increases in acreage for corn and soybean production in the period prior to and following implementation of the RFS Program, the RtC2 concluded that the environmental and resource conservation impacts associated with land use change were likely due, at least in part, to increased biofuel production and use associated with the RFS Program. However, the RtC2 also concluded that further research was needed to assess the linkages between environmental impacts and either the biofuels market generally or the RFS Program specifically.

This RtC3 builds on the previous two reports and provides an update on the impacts to date of the RFS Program on the environment. This report assesses air, water, and soil quality; ecosystem health and biodiversity; and other effects. This third report also includes new analyses not previously included in the first and second reports.

II. Information About This Peer Review

On May 9, 2022, EPA announced through an FRN (87 FR 27634) that it was seeking public comment on a pool of twenty (20) candidates identified through a previous FRN seeking nomination of experts (87 FR 5479, February 1, 2022). After considering public comment, and the balance and collective expertise of the reviewers, ERG identified two (2) additional candidates to strengthen expertise gaps in ecology, water quality, and economics, and allow a more balanced panel. On August 1, 2022, EPA announced through an FRN (87 FR 46958) that it was seeking public comment on the two (2) additional peer review candidates.

After review and consideration of public comments on the candidates submitted in response to the previous FRNs (87 FR 27634, May 9, 2022, and 87 FR 46958, August 1, 2022), EPA's contractor, ERG, selected nine (9) peer reviewers from the pool in a manner consistent with EPA's Peer Review Handbook 4th Edition, 2015 (EPA/100/B-15/001) and independently conducted a conflict of interest (COI) screening of candidates to ensure that the selected experts have no COI in conducting this review. Candidates' combined expertise span the following disciplines: economics, engineering, agronomics, land use change, remote sensing, air quality, biogeochemistry, water quality, hydrology, conservation biology, limnology, and ecology. The external peer review panel, peer review meeting dates, and registration information will be available on www.epa.gov/risk/biofuels-and-environment.

III. How To Submit Technical Comments to the Docket at www.regulations.gov

We encourage the public to submit comments to Docket ID No. [EPA-HQ-ORD-2020-0682] via web at https://www.regulations.gov/ or via email at ord.docket@epa.gov, as there may be a delay in processing mail and faxes. Hand deliveries and couriers may be received at the EPA Docket Center, WJC West Building, Room 3334, 1301 Constitution Avenue NW, Washington, DC, from 8:30 a.m. to 4:30 p.m., Monday through Friday, excluding Federal Holidays. For further information on EPA Docket Center services and the current status, please visit us online at https://www.epa.gov/dockets.

Instructions: Direct your comments to Docket ID No. [EPA-HQ-ORD-2020-0682]. Please ensure that your comments are submitted within the specified comment period. It is EPA's policy to include all materials it receives in the public docket without change and to make the materials available online at www.regulations.gov, including any personal information provided, unless materials include information claimed to be Confidential Business Information (CBI) or other information whose disclosure is restricted by statute. Do not submit information that you consider to be CBI or otherwise protected through www.regulations.gov or email. The www.regulations.gov website is an “anonymous access” system, which means EPA will not know your identity or contact information unless you provide it in the body of your comment. If you send an email directly to EPA without going through www.regulations.gov, your email address will be automatically captured and included as part of the materials that are placed in the public docket and made available on the internet. If you submit electronic materials, EPA recommends that you include your name and other contact information in the body of your materials and with any disk or CD-ROM you submit. If EPA cannot read your materials due to technical difficulties and cannot contact you for clarification, EPA may not be able to consider the materials you submit. Electronic files should avoid the use of special characters, any form of encryption, and be free of any defects or viruses. For additional information about EPA's public docket visit EPA's Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in EPA's Headquarters Docket Center.

Wayne Cascio,
Director, Center for Public Health and Environmental Assessment, Office of Research and Development.

[FR Doc. 2022-27939 Filed 12-30-22; 8:45 am]

BILLING CODE 6560-50-P